DEPARTMENT OF COMMERCE

National Oceanic and Atmospheric Administration

RIN 0648-XA900

Endangered Species; File No. 16146

AGENCY: National Marine Fisheries Service (NMFS), National Oceanic and Atmospheric Administration (NOAA), Commerce.

ACTION: Issuance of permit.

SUMMARY: Notice is hereby given that Kristen Hart, Ph.D., U.S. Geological Survey, Southeast Ecological Science Center, Davie Field Office, Davie, FL has been issued a permit to take loggerhead (Caretta caretta), green (Chelonia mydas), and hawksbill (Eretmochelys imbricata) sea turtles for the purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Amy Hapeman or Kristy Beard, (301) 427-8401.

SUPPLEMENTARY INFORMATION: On July 25, 2011, notice was published in the Federal Register (76 FR 44306) that a request for a scientific research permit to take loggerhead, green, and hawksbill sea turtles had been submitted by the above-named individual. The requested permit has been issued under the authority of the Endangered Species Act of 1973, as amended (ESA; 16 U.S.C. 1531 et seq.) and the regulations governing the taking, importing, and exporting of endangered and threatened species (50 CFR parts 222-226).

Dr. Hart is authorized to study green, hawksbill, and loggerhead sea turtles at Buck Island Reef National Monument, U.S. Virgin Islands. The purposes of the research are to determine species-specific habitat-use patterns over time, increase understanding of genetic stock structure, and estimate vital rates and local population abundance of sea turtles. Researchers may visually count sea turtles during vessel surveys or capture animals by hand, rodeo, dip net, tangle net or cast net for sampling and tagging. Captured sea turtles may have the following procedures performed: epibiota removal, lavage, temporary carapace marking, flipper and passive integrated transponder tagging, measuring, photograph, recapture, blood sampling, fecal sampling, tissue biopsy, and weighing. A subset of animals also may be tagged with satellite tags and data loggers (epoxy attachments) and/or acoustic transmitters (epoxy or drill carapace and attach with wire). The permit is valid for five years.

Issuance of this permit, as required by the ESA, was based on a finding that such permit (1) was applied for in good faith, (2) will not operate to the disadvantage of such endangered or threatened species, and (3) is consistent with the purposes and policies set forth in section 2 of the ESA.

Dated: December 27, 2011.
P. Michael Payne,
Chief, Permits and Conservation Division, Office of Protected Resources, National Marine Fisheries Service.

[FR Doc. 2012-146 Filed 1-6-12; 8:45 am]

BILLING CODE 3510-22-P